ENVIRONMENTAL PROTECTION AGENCY

[ER-FRL-6631-6]

Environmental Impact Statements; Notice of Availability

Responsible Agency: Office of Federal Activities, General Information (202) 564-7167 or http://www.epa.gov/compliance/nepa/.

Weekly receipt of Environmental Impact Statements

Filed July 22, 2002 Through July 26, 2002

Pursuant to 40 CFR 1506.9.

EIS No. 020318, FINAL EIS, BLM, CA, Northern and Eastern Colorado Desert Plan (Plan), Implementation, Comprehensive Framework for Managing Species and Habitats (BLM), Joshua Tree National Park (JTNP) and Chocolate Mountains Aerial Gunnery Range, California Desert, Riverside, Imperial and San Bernardino Counties, CA, Wait Period Ends: September 03, 2002, Contact: Dick Crowe (909) 697-5216.

EIS No. 020319, FINAL EIS, AFS, MT, Lolo National Forest Post Burn Management Activities, Implementation, Ninemile, Superior and Plains Ranger Districts, Mineral, Missoula, and Sanders Counties, MT, Wait Period Ends: September 03, 2002, Contact: Deborah L.R. Austin (406) 329-3750. This document is available on the Internet at: http://www.fs.fed.us/r1/lolo/index.html.

EIS No. 020320, DRAFT EIS, COE, PA, Allegheny and Ohio Rivers Commercial Sand and Gravel Dredging Operations, Granting and Extending Permits for Continuance of Dredging, Section 10 and 404 Permits, PA, Comment Period Ends: November 07, 2002, Contact: Albert H. Rogalla (412) 395-7155. This document is available on the Internet at: http://www.lrp.usace.army.mil.

EIS No. 020321, DRAFT EIS, USN, NC, SC, VA, Introduction of F/A 18 E/F (Super Hornet) Aircraft, Replacing the F-14 (TOMCAT) and F/A-18 C/D (Hornet) Aircraft, Homebasing and Operation, Possible Homebase Sites include Naval Air Station (NAS) Oceana, VA; Marine Corps Air Station (MCAS) Beaufort, SC; and MCAS Cherry Point, NC, Comment Period Ends: October 02, 2002, Contact: Fred Pierson (757) 322-4935. This document is available on the Internet at: http://www.ef.aircraft.ene.com.

EIS No. 020322, DRAFT EIS, SFW, AK, Swanson River Satellites Natural Gas Exploration and Development Project, Evaluation of a Right-of-Way Permit Application, US COE Section 10 and 404 Permits, NPDES Permit, Kenai Natural Wildlife Refuge, Kenai Peninsula, AK, Comment Period Ends: October 1, 2002, Contact: Brian Anderson (907) 786-3379.

EIS No. 020323, FINAL EIS, TVA, AL, MS, TN, Pickwick Reservoir Land Management Plan (Plan) Proposal to use the Plan to Guide Land-Use Approvals, Private Water Use Facility Permitting and Resource Management Decisions, Colbert and Lauderdale Counties, AL, and Tishomingo County, MS and Hardin County, TN, Wait Period Ends: September 3, 2002, Contact: Chellye Campbell (256) 386-3518.

EIS No. 020324, FINAL EIS, FHW, MI, I-96/Airport Area Access Study, Transportation Improvements, Surrounding the Gerald R. Ford International Airport, Kent County, MI, Wait Period Ends: September 3, 2002, Contact: James A. Kirschensteiner (517) 702-1835.

EIS No. 020325, DRAFT EIS, COE, WA, Centralia Flood Damage Reduction Project, Chehalis River, Lewis and Thurston Counties, WA, Comment Period Ends: September 19, 2002, Contact: George Hart (206) 764-3641. This document is available on the Internet at: http://www.nws.usace.army.mil.

Dated: July 30, 2002.
Joseph C. Montgomery,
Director, NEPA Compliance Division, Office of Federal Activities.

[FR Doc. 02-19566 Filed 8-1-02; 8:45 am]

BILLING CODE 6560-50-P